DEPARTMENT OF ENERGY

Federal Energy Regulatory Commission

[Docket No. RP97-374-004]

Northwest Pipeline Corporation; Notice of Compliance Filing

March 5, 2002.

Take notice that on February 28, 2002, Northwest Pipeline Corporation (Northwest) tendered for filing as part of its FERC Gas Tariff, Third Revised Volume No. 1, the following tariff sheets, with an effective date of February 18, 2002:

Substitute Eleventh Revised Sheet No. 364

Substitute Original Sheet No. 370

Northwest states that, consistent with the Commission's order in this proceeding, it is submitting tariff sheets to reflect removal of the nonconforming provision in Northwest's negotiated rate service agreement with Calpine Energy Services, L.P.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5724 Filed 3-8-02; 8:45 am]

BILLING CODE 6717-01-P